DEPARTMENT OF TRANSPORTATION

Federal Aviation Administration

14 CFR Part 71

[Docket No. FAA-2003-16596; Airspace Docket No. 03-ASO-20]

Amendment of Class D, E2 and E4 Airspace; Columbus Lawson AAF, GA, and Class E5 Airspace; Columbus, GA

AGENCY: Federal Aviation Administration (FAA), DOT.

ACTION: Final rule.

SUMMARY: This action amends Class D, E2, and E4 airspace at Columbus Lawson Army Air Field (AAF), GA, and Class E airspace at Columbus, GA. As a result of the relocation of the Lawson AAF Instrument Landing System (ILS) and the extension of Runway (RWY) 15-33, it has been determined a modification should be made to the Columbus Lawson AAF, GA, Class D, E2 and E4 airspace and to the Columbus, GA, Class E5 airspace areas to contain the ILS RWY 33 Standard Instrument Approach Procedure (SIAP) to the Lawson AAF Airport. Additional surface area airspace and controlled airspace extending upward from 700 feet Above Ground Level (AGL) is needed to contain the SIAP.

EFFECTIVE DATE: 0901 UTC, June 10, 2004.

FOR FURTHER INFORMATION CONTACT: Water R. Cochran, Manager, Airspace Branch, Air Traffic Division, Federal Aviation Administration, P.O. Box 20636, Atlanta, Georgia 30320; telephone (404) 305-5627.

SUPPLEMENTARY INFORMATION:

History

On January 15, 2004, the FAA proposed to amend part 71 of the Federal Aviation Regulations (14 CFR part 71) by amending Class D, E2, and E4 airspace at Columbus Lawson AAF, GA, and Class E5 airspace at Columbus, GA, (69 FR 2311). This action provides adequate Class D, E2, E4 and E5 airspace for IFR operations at Columbus Lawson AAF, GA. Designations for Class D airspace areas extending upward from the surface of the earth and Class E airspace designations for airspace designated as surface areas and airspace areas extending upward from 700 feet or more above the surface of the earth are published in Paragraphs 5000, 6002, 6004 and 6005 respectively, of FAA Order 7400.9L, dated September 2, 2003, and effective September 16, 2003, which is incorporated by reference in 14 CFR 71.1. The Class D and E designations listed in this document will be published subsequently in the Order.

Interested parties were invited to participate in this rulemaking proceeding by submitting written comments on the proposal to the FAA. No comments objecting to the proposal were received.

The Rule

This amendment to part 71 of the Federal Aviation Regulations (14 CFR part 71) amends Class D, E2, and E4 airspace at Columbus Lawson AAF, GA, and Class E5 airspace at Columbus, GA.

The FAA has determined that this rule only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 5000 Class D Airspace

* * * * *

ASO GA D Columbus Lawson AAF, GA [Revised]

Columbus Lawson AAF, GA

(Lat. 32°20′14″ N, long. 84°59′29″ W)

That airspace extending upward from the surface to and including 2,700 feet MSL within a 4.2-mile radius of Lawson AAF, excluding that airspace within the Columbus Metropolitan Airport, GA, Class C airspace area. This Class D airspace area is effective during the specific days and times established in advance by a Notice to Airmen. The effective date and time will thereafter be continuously published in the Airport/Facility Directory.

* * * * *

Paragraph 6002 Class E Airspace Designated as Surface Areas

* * * * *

ASO GA E2 Columbus Lawson AAF, GA [Revised]

Columbus Lawson AAF, GA

(Lat. 32°20′14″ N, long. 84°59′29″ W)

Within a 4.2-mile radius of Lawson AAF; excluding that airspace within the Columbus Metropolitan Airport, GA, Class C airspace area. This Class E airspace area is effective during the specific days and times established in advance by a Notice to Airmen. The effective date and time will thereafter be continuously published in the Airport/Facility Directory.

* * * * *

Paragraph 6004 Class E Airspace Areas Designated as an Extension to a Class D or Class E Surface Area

* * * * *

ASO GA E4 Columbus Lawson AAF, GA [Revised]

Lawson AAF, GA

(Lat. 32°20′14″ N, long. 84°59′29″ W)

Lawson VOR/DME

(Lat. 32°19′57″ N, long. 84°59′36″ W)

Lawson NDB

(Lat. 32°17′36″ N, long. 85°01′24″ W)

That airspace extending upward from the surface within 1.2 miles each side of the Lawson VOR/DME 214° radial extending from the 4.2-mile radius of Lawson AAF to 6 miles southwest of the NDB. This Class E airspace area is effective during the specific days and times established in advance by a Notice to Airmen. The effective date and time will thereafter be continuously published in the Airport/Facility Directory.

* * * * *

Paragraph 6005 Class E Airspace Designated as Surface Areas

* * * * *

ASO GA E5 Columbus, GA [Revised]

Columbus Metropolitan Airport, GA

(Lat. 32°30′59″ N, long. 84°56′20″ W)

Lawson AAF, GA

(Lat. 32′20′14″ N, long. 84°59′29″ W)

Lawson VOR/DME

(Lat. 32°19′57″ N, long. 84°59′36″ W)

Lawson LOC

(Lat. 32°20′43″ N, long. 84°59′55″ W)

That airspace extending upward from 700 feet above the surface within a 10-mile radius of Columbus Metropolitan Airport and within a 7.6-mile radius of Lawson AAF and within 2.5 miles each side of Lawson VOR/DME 340° radial, extending from the 7.6-mile radius to 15 miles north to the VOR/DME and within 4 miles each side of the Lawson LOC 127° course, extending from the 7.6-mile radius to 10.6 miles southeast of Lawson AAF.

* * * * *

Issued in College Park, Georgia, on February 26, 2004.
Jeffrey U. Vincent,
Acting Manager, Air Traffic Division, Southern Region.

[FR Doc. 04-6048 Filed 3-22-04; 8:45 am]

BILLING CODE 4910-13-M